DEPARTMENT OF THE INTERIOR

Fish and Wildlife Service

Notice of Meetings of the Klamath River Basin Fisheries Task Force

AGENCY: Fish and Wildlife Service, Interior.

ACTION: Notice of meetings.

SUMMARY: Pursuant to section 10(a)(2) of the Federal Advisory Committee Act (5 U.S.C. App. I), this notice announces a meeting of the Klamath River Basin Fisheries Task Force, established under the authority of the Klamath River Basin Fishery Resources Restoration Act (16 U.S.C. 460ss et seq.). The meeting is open to the public. The purpose of the meeting is to continue providing recommendations from the affected interests to the Department of the Interior on implementation of their program to restore anadromous fisheries, including salmon and steelhead, of the Klamath River in California and Oregon.

DATES: The first meeting will be from 9 a.m. to 5 p.m. on February 18, 2004, and from 8 a.m. to 1 p.m. on February 19, 2004. The second meeting will be from 9 a.m. to 5 p.m. on June 23, 2004, and from 8 a.m. to 1 p.m. on June 24, 2004. The third meeting will be from 9 a.m. to 5 p.m. on October 13, 2004, and from 8 a.m. to 1 p.m. on October 14, 2004.

ADDRESSES: The first meeting will be held at the Best Western Beachfront Inn, 16008 Boat Basin Road, Brookings, Oregon. The second meeting will be held at the Olympic Inn, 2627 South 6th Street, Klamath Falls, Oregon. The third meeting will be held at the Convention Center, Best Western Miner's Inn, 112 E. Miner Street, Yreka, California.

FOR FURTHER INFORMATION CONTACT: Phil Detrich, Field Supervisor, U.S. Fish and Wildlife Service, 1829 South Oregon Street, Yreka, California 96097, telephone (530) 842-5763.

SUPPLEMENTARY INFORMATION: For background information on the Task Force, please refer to the notice of their initial meeting that appeared in the Federal Register on July 8, 1987 (52 FR 25639).

Dated: August 22, 2003.
John Engbring,
Acting Manager, California/Nevada Operations, Fish and Wildlife Service.

[FR Doc. 03-22062 Filed 8-27-03; 8:45 am]

BILLING CODE 4310-55-P